DEPARTMENT OF TRANSPORTATION

National Highway Traffic Safety Administration

Announcing the Eighteenth Public Meeting of the Crash Injury Research and Engineering Network (CIREN)

AGENCY: National Highway Traffic Safety Administration (NHTSA), DOT.

ACTION: Meeting Announcement.

SUMMARY: This notice announces the Eighteenth Public Meeting of members of the Crash Injury Research and Engineering Network. CIREN is a collaborative effort to conduct research on crashes and injuries at eight Level 1 Trauma Centers across the United States linked by a computer network. Researchers can review data and share expertise, which may lead to a better understanding of crash injury mechanisms and the design of safer vehicles. The eight centers will give presentations on current research based on CIREN data. The agenda will be posted to the CIREN Web site that can be accessed by going to the NHTSA homepage http://www.nhtsa.dot.gov/, click on Vehicle Safety Research on the right side of the top toolbar, then click on Crash Injury Research and Engineering Network (CIREN) in the box on the left. The agenda will be posted two weeks prior to the meeting.

Date and Time: The meeting is scheduled from 8:30 a.m. to 5 p.m. on Thursday, October 8, 2009.

ADDRESSES: The meeting will be held at: University of Maryland/National Study Center, 110 South Paca Street, Learning Center, Baltimore, MD 21201.

To Register for This Event: It is not necessary to pre-register, but attendees are strongly encouraged to do so to expedite the security process for entry to the meeting facility. Please send your name, affiliation, phone number and e-mail address to cburch@som.umaryland.edu (or call 410-328-2683) by Wednesday, September 30, 2009, in order to have your name added to the pre-registration list. Everyone must have a government-issued photo identification to be admitted to the facility.

For General Information: Rodney Rudd (202) 366-5932, Mark Scarboro (202) 366-5078 or Cathy McCullough (202) 366-4734.

SUPPLEMENTARY INFORMATION: NHTSA has held CIREN public meetings on a regular basis since 2000, including quarterly meetings and annual conferences. This is the eighteenth such meeting. Presentations from these meetings are available through the NHTSA Web site. NHTSA plans to continue holding CIREN meetings on a regular basis to disseminate CIREN information to interested parties. Individual CIREN cases collected since 1998 may be viewed from the NHTSA/CIREN Web site at the address provided above. At this public meeting, the CIREN Centers will be giving presentations on topics including side impact response; comparisons between anthropomorphic test device response and real-world injury; lumbar spine fractures; and evaluations of safety systems and vehicle design.

Should it be necessary to cancel the meeting due to inclement weather or to any other emergencies, a decision to cancel will be made as soon as possible and posted immediately on CIREN's Web site as indicated above. If you do not have access to the Web site, you may call or e-mail the contacts listed in this announcement and leave your telephone number or e-mail address. You will be contacted only if the meeting is postponed or canceled.

Issued on: August 26, 2009.
John Maddox,
Associate Administrator for Vehicle Safety Research.

[FR Doc. E9-21382 Filed 9-3-09; 8:45 am]

BILLING CODE 4910-59-P